DEPARTMENT OF HEALTH AND HUMAN SERVICES

Federal Health IT Strategic Plan: 2011-2015 Open Comment Period Extended Until Friday, May 6

AGENCY: Office of the National Coordinator for Health Information Technology, HHS.

ACTION: Notice.

SUMMARY: The Federal Health IT Strategic Plan: 2011-2015 (“the Plan”) was posted on the ONC Web site on March 25, 2011 and originally open for public comment through Friday, April 22 at 11:59 p.m. (Eastern). This notice serves to announce that the public comment period for the Plan has been extended through Friday, May 6 at 11:59 p.m. (Eastern).

In order for your comments to be read and considered, you must submit your comment via the Federal Health IT Buzz Blog: http://www.healthit.gov/buzz-blog/from-the-onc-desk/hit-strat-plan/.

Dated: April 19, 2011.
Erin Poetter,
Office of Policy and Planning, Office of the National Coordinator for Health Information Technology.

[FR Doc. 2011-9941 Filed 4-22-11; 8:45 am]

BILLING CODE 4150-45-P